DEPARTMENT OF HOMELAND SECURITY

Coast Guard

[Docket No. USCG-2008-0197]

Navigation Safety Advisory Council; Meeting

AGENCY: Coast Guard, DHS.

ACTION: Notice of meeting.

SUMMARY: The Navigation Safety Advisory Council (NAVSAC) will meet to discuss various issues relating to the safety of navigation. The meeting will be open to the public.

DATES: NAVSAC will meet on Wednesday, May 14, 2008, from 8 a.m. to 5 p.m. and Thursday, May 15, 2008 from 8 a.m. to 5 p.m. The meeting may close early if all business is finished. Written material and requests to make oral presentations should reach the Coast Guard on or before April 28, 2008. Requests to have a copy of your material distributed to each member of the committee should reach the Coast Guard on or before April 28, 2008.

ADDRESSES: NAVSAC will meet in the Crowne Plaza Hotel Seattle, 1113 6th Avenue, Seattle, WA 98101. Send written material and requests to make oral presentations to Mr. John Bobb, Commandant (CG-54121), U.S. Coast Guard Headquarters, 2100 Second Street, SW., Washington, DC 20593-0001. This notice is available on our online docket, USCG-2007-0028 at http://www.regulations.gov.

FOR FURTHER INFORMATION CONTACT: Mr. Mike Sollosi, Executive Director of NAVSAC, or Mr. John Bobb, Assistant to the Executive Director, telephone 202-372-1532, fax 202-372-1929 or e-mail at john.k.bobb@uscg.mil.

SUPPLEMENTARY INFORMATION: Notice of the meeting is given under the Federal Advisory Committee Act, 5 U.S.C. App. (Pub. L. 92-493).

Agenda of Meeting

The agenda for the May 14-15, 2008 NAVSAC meeting is as follows:

(1) COLREGS Rule 34.

(2) NAVAID Mix Template.

(3) AIS Authority.

(4) Arctic Navigation Requirements.

(5) High Speed Craft.

Procedural

The meeting is open to the public. Please note that the meeting may close early if all business is finished. At the Chair's discretion, members of the public may make oral presentations during the meeting. If you would like to make an oral presentation at the meeting, please notify the Executive Director no later than April 28, 2008. Written material for distribution at the meeting should reach the Coast Guard no later than April 28, 2008. If you would like a copy of your material distributed to each member of the committee in advance of the meeting, please submit 20 copies to the Executive Director no later than April 28, 2008.

Information on Services for Individuals With Disabilities

For information on facilities or services for individuals with disabilities or to request special assistance at the meeting, contact the Executive Director as soon as possible.

Dated: April 4, 2008.
Wayne A. Muilenburg,
Captain, U.S. Coast Guard, Office of Waterways Management.

[FR Doc. E8-7940 Filed 4-14-08; 8:45 am]

BILLING CODE 4910-15-P